DEPARTMENT OF THE INTERIOR

Fish and Wildlife Service

Notice of Availability of a Final Supplemental Environmental Impact Statement

AGENCY: U.S. Fish and Wildlife Service, Interior (Lead Agency): New York State Department of Environmental Conservation: Vermont Department of Fish and Wildlife (Cooperating Agencies).

ACTION: Notice of availability of Final Supplemental Environmental Impact Statement for a sea lamprey control proposal in Lake Champlain

SUMMARY: This notice announces the availability of a Final Supplemental Environmental Impact Statement (FSEIS) on a proposal to continue sea lamprey control in Lake Champlain. The U.S. Fish and Wildlife Service (USFWS) in cooperation with the Vermont Department of Fish and Wildlife (VTDFW) and the New York State Department of Environmental Conservation (NYSDEC) prepared the FSEIS pursuant to Sec. 102(2)(c) of the National Environmental Policy Act of 1969.

DATES: A 30-day review period will follow the Environmental Protection Agency's notice of availability of the FSEIS on September 7, 2001.

ADDRESSES: Copies of the FSEIS are available from Mr. Dave Tilton, Project Leader, USFWS Lake Champlain Office, 11 Lincoln St., Essex Junction, Vermont 05452; phone 802-872-0629, fax 802-872-9704.

FOR FURTHER INFORMATION CONTACT: Mr. Dave Tilton, Project Leader, USFWS Lake Champlain Office, 11 Lincoln St., Essex Junction, Vermont 05452; phone 802-872-0629, fax 802-872-9704. New York contact person is Mr. Lawrence Nashett, Acting Regional Fisheries Manager, New York Department of Environmental Conservation, Region 5, P.O. Box 296, Ray Brook, New York 12977; phone 518-897-1333. Vermont contact person is Mr. Brian Chipman, District Fisheries Biologist, Vermont Department of Fish and Wildlife, 111 West Street, Essex Junction, Vermont 05452, phone 802-878-1564.

SUPPLEMENTARY INFORMATION:

Background

Sea lamprey are primitive marine invaders to Lake Champlain. They are parasitic fish that feed on the body fluids of other fish resulting in reduced growth and often the death of host fish. A substantial body of information collected on Lake Champlain indicates sea lamprey have a profound negative impact upon the lake's fishery resources and have suppressed efforts to establish new and historical sportfisheries. In 1990, the USFWS, NYSDEC, and VTDFW initiated an 8-year experimental sea lamprey control program for Lake Champlain. The experimental program treated tributaries and deltas of Lake Champlain with the chemical lampricides TFM and Bayluscide (listed as Bayer 73 in the Final Environmental Impact Statement), which substantially reduced larval sea lamprey numbers in treated waters. The program included monitoring and assessment of the effects of this sea lamprey reduction technique on the characteristics of certain fish populations, the sport fishery, and the area's growth and economy. A set of thirty evaluation standards were established. Overall, the experimental sea lamprey control program met or exceeded the majority of the standards demonstrating a successful reduction in the sea lamprey population. In addition to this evaluation, the cooperating agencies assessed the effects of the program on nontarget organisms.

Two rounds of treatments were planned for each significantly infested stream and delta. From 1990 through 1996, 24 TFM treatments were conducted on 14 Lake Champlain tributaries, and 9 Bayluscide treatments were conducted on 5 deltas. Approximately 141 stream miles and 1220 delta acres were treated.

In summary, trap catches of spawning-phase sea lamprey declined by 80 to 90 percent; nest counts were reduced by 57 percent. Sixteen of 22 TFM treatments reduced ammocoetes at index stations to less than 10 percent of pre-treatment levels. Eight of the nine Bayluscide treatments resulted in mean mortality rates over 85 percent among caged ammocoetes. Relatively small numbers of nontarget amphibian and fish species were killed. Adverse effects on nontarget species were higher for Bayluscide treatments than TFM. Native mussels, snails and some other macroinvertebrates were significantly affected after the 1991 Bayluscide treatments of the Ausable and Little Ausable deltas in New York. However, they recovered to pre-treatment levels within 4 years. American brook lamprey also experienced substantial treatment-related mortality. Yet, the finding of dead American brook lamprey during the experimental program's second-round treatments, in each stream where they were negatively affected during the first round, suggested survival or immigration was adequate to maintain their populations. Wounding rates on lake trout and landlocked Atlantic salmon were reduced in the main lake basin, and catches of both species increased. A significant increase in survival of 3 to 4-year old lake trout was noted: survival of older fish improved, but did not change significantly. Returns of Atlantic salmon to tributaries increased significantly after treatment. Changes in wounding rates on brown and rainbow trout could not be evaluated, but angler catches increased since 1990. Catch per unit effort of rainbow smelt, the major forage species for salmonids, decreased significantly at one of two sampling stations in the main lake basin and in Malletts Bay, but not at other locations; length-at-age also decreased at most sites. Evaluation of angler responses to the program indicated a favorable economic benefit-cost ratio of 3.5-1.

A Comprehensive Evaluation of an 8-Year Program of Sea Lamprey Control in Lake Champlain provides a detailed description of the results of the project. It is available on the USFWS web-site at, [www.fws.gov/r5lcfwro/lamprey/lamprey.html.], or from any of the contacts for further information listed above.

Decision To Be Made

The responsible officials in the USFWS, NYSDEC, and VTDFW must decide whether to continue sea lamprey control for Lake Champlain. If sea lamprey control will continue, the agencies must also decide whether to implement the following actions:

(1) Establish long term program objectives to include:

(a) Achieve and maintain lamprey wounding rates at or below 25 wounds per 100 lake trout, ideally 10 wounds per 100 lake trout; 15 wounds per 100 landlocked salmon, ideally 5 wounds per 100 landlocked salmon; and 2 wounds per 100 walleye, ideally less than 1 wound per 100 walleye.

(b) Attain target wounding rates within 5 years of full implementation of the Proposed Action. Full implementation is defined as application of optimal sea lamprey control strategies on all tributaries that are identified in the Proposed Action and are known to warrant sea lamprey control measure.

(2) Employ an integrated approach to continuing sea lamprey control using lampricides and nonchemical means.

In addition, if sea lamprey control will continue, the agencies must also make the following determinations:

(1) Determine mitigation and monitoring measures required for sound resource management.

(2) Determine whether sea lamprey control is in the best interest for the resource and citizens of the States of New York and Vermont.

The Record of Decision is expected to be released in September, 2001. The Responsible Officials will make a decision regarding this proposal after considering public comments and the environmental consequences displayed in the Final Supplemental Environmental Impact Statement, applicable laws, regulations, and policies. The decision and supporting reason will be documented in the Record of Decision.

Dated: August 24, 2001.
Richard O. Bennett,
Acting Regional Director.

[FR Doc. 01-22432 Filed 9-5-01; 8:45 am]

BILLING CODE 4310-55-P